DEPARTMENT OF COMMERCE

International Trade Administration

North American Free-Trade Agreement (NAFTA), Article 1904 Binational Panel Reviews

AGENCY: NAFTA Secretariat, United States Section, International Trade Administration, Department of Commerce.

ACTION: Notice of Decision of Panel.

SUMMARY: On April 21, 2005 the binational panel issued its corrected decision in the review of the final injury determination on remand made by the International Trade Commission, respecting Carbon and Certain Alloy Steel Wire Rod from Canada Final Injury Determination, Secretariat File No. USA-CDA-2002-1904-09. The binational panel affirmed the International Trade Commission's determination on remand. Copies of the panel decision are available from the U.S. Section of the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: The panel affirmed the International Trade Commission's determination on remand respecting Carbon and Certain Alloy Steel Wire Rod from Canada. The panel has directed the Secretary to issue a Notice of Final Panel Action on the 11th day following the issuance of the decision.

Caratina L. Alston,
U.S. Secretary, NAFTA Secretariat.

[FR Doc. E5-1993 Filed 4-26-05; 8:45 am]

BILLING CODE 3510-GT-P